DEPARTMENT OF THE INTERIOR

Bureau of Land Management

[ID-933-1430-EU; IDI-2400C, IDI-32131]

Termination of Desert Land Entry Classification, Idaho

AGENCY: Bureau of Land Management, Interior.

ACTION: Notice.

SUMMARY: This notice terminates a non-suitable Desert Land Entry classification on 3.09 acres, so the land can be patented under sections 203 and 209 of the Federal Land Policy and Management Act of 1976, as amended.

DATES: Effective Date: May 26, 2006.

FOR FURTHER INFORMATION CONTACT: Cathie Foster, BLM Idaho State Office, 1387 S. Vinnell Way, Boise, Idaho 83709, (208) 373-3863.

SUPPLEMENTARY INFORMATION: On December 29, 1969, 3.09 acres were classified as non-suitable for entry under the Desert Land Act of March 3, 1877, as amended and supplemented (43 U.S.C. 321, et seq.). The classification is hereby terminated and the segregation for the following described lands is hereby terminated:

T. 11 N., R. 18 E., B.M.

Section 35: Lot 5.

The area described above aggregates 3.09 acres in Custer County.

At 9 a.m. on May 26, 2006, the Desert Land Entry classification identified above will be terminated. The lands will remain closed to location and entry under the public land laws and the mining laws, as they are currently segregated for direct sale.

Jimmie Buxton,
Chief, Branch of Lands, Minerals and Water Rights, Resource Services Division.

[FR Doc. E6-8094 Filed 5-25-06; 8:45 am]

BILLING CODE 4310-GG-P